DEPARTMENT OF TRANSPORTATION

Maritime Administration

[Docket No. MARAD-2023-0155]

Request for Comments on the Renewal of a Previously Approved Information Collection: Voluntary Tanker Agreement

AGENCY: Maritime Administration, DOT.

ACTION: 30-Day Federal Register notice.

SUMMARY: The Maritime Administration (MARAD) invites public comments on our intention to request the Office of Management and Budget (OMB) approval to renew an information collection in accordance with the Paperwork Reduction Act of 1995. The proposed collection OMB 2133-0505 (Voluntary Tanker Agreement) is used to gather information from tanker operators who agree to contribute, either by direct charter to the Department of Defense or to other participants, tanker capacity as requested by the Maritime Administrator to meet the essential needs for the transportation of petroleum and petroleum products in bulk by sea. The public burden is being updated to include mailing costs for respondents to submit responses for this collection. We are required to publish this notice in the Federal Register to obtain comments from the public and affected agencies. A 60-day Federal Register notice soliciting comments on this information collection was published on May 5, 2023.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: David Hatcher, (202) 366-0688, Office of Sealift Support, Maritime Administration, 1200 New Jersey Avenue SE, Washington, DC 20590, Email: David.Hatcher1@dot.gov.

SUPPLEMENTARY INFORMATION:

Title: Voluntary Tanker Agreement.

OMB Control Number: 2133-0505.

Type of Request: Renewal of a previously approved information collection.

Abstract: The Voluntary Tanker Agreement is a voluntary agreement, in accordance with section 708, Defense Production Act, 1950, as amended (50 U.S.C. App. 2158). The collection consists of a request from the Maritime Administration (MARAD) that each VTA participant submit a list of the names of ships owned, chartered, or contracted for by the participant, their size, flags of registry, and other pertinent information. This collection of information is necessary to evaluate and plan for the use of tanker capability during national emergencies. The collected information will also be used by both MARAD and Department of Defense personnel to establish contingency plans.

Respondents: Coastwise qualified vessel owners, operators, charterers, brokers, and vessel representatives.

Affected Public: Business or other for profit.

Estimated Number of Respondents: 15.

Estimated Number of Responses: 15.

Estimated Hours per Response: 1.

Annual Estimated Total Annual Burden Hours: 15.

Frequency of Response: Annually.

(Authority: The Paperwork Reduction Act of 1995; 44 U.S.C. chapter 35, as amended; and 49 CFR 1.49.)

By Order of the Maritime Administrator.
T. Mitchell Hudson, Jr.,
Secretary, Maritime Administration.

[FR Doc. 2023-16046 Filed 7-27-23; 8:45 am]

BILLING CODE 4910-81-P